AGENCY FOR INTERNATIONAL DEVELOPMENT

Bureau for Democracy, Conflict and Humanitarian Assistance, Office of Food for Peace; Announcement of Draft Pub. L. 480 Title II Guidelines for FY 2004 Development Assistance Programs

Notice

Pursuant to the Agricultural Trade Development and Assistance Act of 1954 (Public Law 480, as amended), notice is hereby given that the Pub. L. 480 Title II Guidelines for FY 2004 Development Assistance Programs are being made available to interested parties for the required thirty (30) day comment period.

Individuals who wish to receive a copy of these draft guidelines should contact: Office of Food for Peace, Agency for International Development, RRB 7.06-153, 1300 Pennsylvania Avenue, Washington, DC 20523-7600. Individuals who have questions or comments on the draft guidelines should contact Angelique M. Crumbly at the above address or at (202) 712-4279.

The thirty-day comment period will begin on the date that this announcement is published in the Federal Register.

Dated: May 28, 2002.
Lauren Landis,
Director, Office of Food for Peace, Bureau for Democracy, Conflict and Humanitarian Assistance.

[FR Doc. 02-13858 Filed 6-3-02; 8:45 am]

BILLING CODE 6116-01-P